ENVIRONMENTAL PROTECTION AGENCY

[FRL-7646-5]

Science Advisory Board Staff Office; Clean Air Scientific Advisory Committee (CASAC); Ambient Air Monitoring and Methods (AAMM) Subcommittee; Request for Nominations

AGENCY: Environmental Protection Agency (EPA).

ACTION: Notice.

SUMMARY: The U.S. Environmental Protection Agency (EPA or Agency) Science Advisory Board (SAB) Staff Office is announcing the formation of the Clean Air Scientific Advisory Committee (CASAC) Ambient Air Monitoring and Methods (AAMM) Subcommittee (hereinafter, the “Subcommittee”) and is hereby soliciting nominations for this Subcommittee.

DATES: Nominations should be submitted by May 3, 2004 per the instructions below.

FOR FURTHER INFORMATION CONTACT: Any member of the public wishing further information regarding this Request for Nominations may contact Mr. Fred Butterfield, Designated Federal Officer (DFO), EPA Science Advisory Board Staff, at telephone/voice mail: (202) 343-9994; or via e-mail at: butterfield.fred@epa.gov. General information concerning the CASAC or the SAB can be found on the EPA Web site at: http://www.epa.gov/sab.

SUPPLEMENTARY INFORMATION:

Background: The CASAC, which comprises seven members appointed by the EPA Administrator, was established under section 109(d)(2) of the Clean Air Act (42 U.S.C. 7409) as an independent scientific advisory committee, in part to provide advice, information and recommendations on the scientific and technical aspects of issues related to air quality criteria and national ambient air quality standards (NAAQS) under sections 108 and 109 of the Act. The CASAC is a Federal advisory committee chartered under the Federal Advisory Committee Act (FACA), as amended, 5 U.S.C., App. The Subcommittee will comply with the provisions of FACA and all appropriate SAB Staff Office procedural policies.

The SAB Staff Office is forming this Subcommittee to provide EPA, through the CASAC, with advice and recommendations on topical areas related to ambient air monitoring and methods developments. The Clean Air Act requires EPA to establish NAAQS and to regulate, as necessary, hazardous air pollutants. The Agency uses ambient air monitoring to determine current air quality conditions, and to assess progress toward meeting these standards and related regulatory goals. EPA has traditionally concentrated much of the national air monitoring efforts on the six “criteria air pollutants,” i.e., ozone, particulate matter, nitrogen oxides, sulfur dioxide, carbon monoxide, and lead. More recently, the Agency is focusing upon the measurement of toxic air pollutants including early work to establish a national air toxics monitoring program. Nearly all of the air quality monitoring is conducted by State, local, and Tribal agencies through funding provided by EPA's matching Federal grants programs. Data needs, and therefore, scientific demands upon the ambient air monitoring network are increasing. EPA's Office of Air Quality Planning and Standards (OAQPS), within EPA's Office of Air and Radiation, developed a draft national ambient air monitoring strategy that will accommodate these changes.

The CASAC's National Ambient Air Monitoring Strategy (NAAMS or Strategy) Subcommittee provided an initial review of the draft strategy which is available on the SAB Web site at: http://www.epa.gov/sab/pdf/casacl04001.pdf. The CASAC requested that the Agency develop an implementation plan that matched the underlying concepts of the Strategy. Accordingly, the new Subcommittee will be charged with reviewing the monitoring strategy implementation plan, which will include specific recommendations of measurements, measurement methods, regulatory review and revision, quality assurance/quality control standards, and network design.

Furthermore, EPA's OAQPS has initiated the evaluation of continuous monitoring technologies for use in the measurement of coarse particles as either a Federal Reference Method (FRM) or a Federal Equivalent Method (FEM). These efforts support major regulatory objectives of the Clean Air Act as part of the Agency's work in developing a reference method for coarse particles to be included in the EPA Review of the National Ambient Air Quality Standards for Particulate Matter: Policy Assessment of Scientific and Technical Information (i.e., the draft OAQPS Staff Paper on Particulate Matter), which can be found at the following URL: http://www.epa.gov/ttn/naaqs/standards/pm/s_pm_index.html. Therefore, the new Subcommittee will also be charged with reviewing the coarse particle methods testing study conducted by EPA and providing recommendations for use of these methods as reference or equivalent methods. The review also will consider how to optimize the use of one or more methods to meet multiple monitoring objectives, while having a scientifically-acceptable approach to the coarse particle reference method.

Any questions concerning either the ambient air monitoring strategy implementation plan or the coarse particle methods evaluation activities should be directed to Dr. Richard Scheffe, U.S. EPA OAQPS Monitoring and Quality Assurance Group Leader, at phone: (919) 541-4650; or e-mail: scheffe.rich@epamail.epa.gov.

The SAB Staff Office is soliciting public nominations of national and international experts in one or more of the following areas:

(a) Atmospheric sciences and air quality simulation modeling. Areas of expertise include the development and application of regional and larger-scale air quality dispersion models to predict atmospheric concentrations of ozone, particulate matter and other air pollutants, with emphasis placed on the application of such systems to developing emission control strategies in support of national-level programs or State Implementation Plans (SIPs). Related areas of expertise include individuals with expertise in mechanisms of chemical interactions, source-receptor modeling, observational-based models and related data analysis expertise and conceptual model development.

(b) Human health effects and exposure assessment. Areas of expertise include utilizing ambient monitoring data in epidemiology, toxicology, and related disciplines that examine the causative relationships between air pollution and adverse health effects in indoor and outdoor environments.

(c) Air quality measurement science. Areas of expertise include measurement of criteria and hazardous air pollutants in particulate matter and gaseous samples with an understanding of routine monitoring conducted by most State and local agencies, an interest in and an understanding of integrating advanced methodologies into monitoring networks and transferring new technological advances to routine use by government air quality agencies.

(d) Ecological risk assessment. Areas of expertise include the assessment of ecosystem exposure to criteria and hazardous air pollutants and the use of such data in ecosystem risk assessment.

(e) State, local agency or Tribal experience. Areas of expertise include experience working in a State, local agency or Tribal organization familiar with the practical logistics of conducting air monitoring operations, as well as in air monitoring network design.

Process and Deadline for Submitting Nominations: Any interested person or organization may nominate qualified individuals in the areas of expertise described above to serve on the Subcommittee the areas of expertise described above. Nominations should be submitted in electronic format through the Form for Nominating Individuals to Panels of the EPA Science Advisory Board provided on the SAB Web site, http://www.epa.gov/sab. The form can be accessed through a link on the blue navigational bar on the SAB Web site, http://www.epa.gov/sab. To be considered, all nominations must include the information required on that form.

Anyone who is unable to submit nominations using this form, and any questions concerning any aspects of the nomination process may contact Mr. Fred Butterfield, DFO, as indicated above in this notice. Nominations should be submitted in time to arrive no later than May 3, 2004.

To be considered, all nominations must include: (a) A current biography, curriculum vitae (C.V.) or resume, which provides the nominee's background, experience and qualifications for the Subcommittee; and (b) a brief biographical sketch (“biosketch”). The biosketch should be no longer than one page and must contain the following information for the nominee:

(I) Current professional affiliations and positions held;

(ii) Area(s) of expertise, and research activities and interests;

(iii) Leadership positions in national associations or professional publications or other significant distinctions;

(iv) Educational background, especially advanced degrees, including when and from which institutions these were granted;

(v) Service on other advisory committees, professional societies, especially those associated with issues under discussion in this review; and

(vi) Sources of recent (i.e., within the preceding two years) grant and/or other contract support, from government, industry, academia, etc., including the topic area of the funded activity.

Please note that even if there is no responsive information (e.g., no recent grant or contract funding), this must be indicated on the biosketch (by “N/A” or “None”). Incomplete biosketches will result in nomination packages not being accepted.

The EPA SAB Staff Office will acknowledge receipt of the nomination. From the nominees identified by respondents to this notice (termed the “Widecast”), the SAB Staff Office will develop a smaller subset (known as the “Short List”) for more detailed consideration. Criteria used by the SAB Staff in developing this Short List are given at the end of the following paragraph. The Short List will be posted on the SAB Web site at: http://www.epa.gov/sab, and will include, for each candidate, the nominee's name and their biosketch. Public comments will be accepted for 21 calendar days on the Short List. During this comment period, the public will be requested to provide information, analysis or other documentation on nominees that the SAB Staff Office should consider in evaluating candidates for the Subcommittee.

For the EPA SAB Staff Office, a balanced subcommittee or review panel is characterized by inclusion of candidates who possess the necessary domains of knowledge, the relevant scientific perspectives (which, among other factors, can be influenced by work history and affiliation), and the collective breadth of experience to adequately address the charge. Public responses to the Short List candidates will be considered in the selection of the Subcommittee, along with information provided by candidates and information independently-gathered by the SAB Staff Office on the background of each candidate (e.g., financial disclosure information and computer searches to evaluate a nominee's prior involvement with the topic under review). Specific criteria to be used in evaluating an individual Subcommittee member include: (a) Scientific and/or technical expertise, knowledge, and experience (primary factors); (b) availability and willingness to serve; (c) absence of financial conflicts of interest; (d) scientific credibility and impartiality; and (e) skills working in advisory committees, subcommittees and review panels. Subcommittee members will likely be asked to attend no more than two public, face-to-face meetings and/or public teleconference meetings per year.

Short List candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is on the SAB Web site at: http://www.epa.gov/sab/pdf/ec02010.pdf.

Dated: April 6, 2004.
Vanessa T. Vu,
Director, EPA Science Advisory Board Staff Office.

[FR Doc. 04-8224 Filed 4-9-04; 8:45 am]

BILLING CODE 6560-50-P